DEPARTMENT OF HEALTH AND HUMAN SERVICES

Food and Drug Administration

[Docket No. FDA-2015-N-0002]

Withdrawal of Approval of New Animal Drug Application; Chlortetracycline

AGENCY: Food and Drug Administration, HHS.

ACTION: Notice of withdrawal of approval.

SUMMARY: The Food and Drug Administration (FDA) is withdrawing approval of a new animal drug application (NADA). This action is being taken at the sponsors' request because this product is no longer manufactured or marketed.

DATES: Withdrawal of approval is effective June 15, 2015.

FOR FURTHER INFORMATION CONTACT: Sujaya Dessai, Center for Veterinary Medicine (HFV-212), Food and Drug Administration, 7519 Standish Pl., Rockville, MD 20855, 240-276-9075, sujaya.dessai@fda.hhs.gov.

SUPPLEMENTARY INFORMATION: The Hartz Mountain Corp., 400 Plaza Dr., Secaucus, NJ 07094 has requested that FDA withdraw approval of NADA 065-222 for KEET LIFE (chlortetracycline) Bird Seed because this product is no longer manufactured or marketed.

Therefore, under authority delegated to the Commissioner of Food and Drugs and redelegated to the Center for Veterinary Medicine, and in accordance with 21 CFR 514.116 Notice of withdrawal of approval of application, notice is given that approval of NADA 065-222, and all supplements and amendments thereto, is hereby withdrawn, effective June 15, 2015.

The animal drug regulations are not being amended to reflect the voluntary withdrawal of approval of this application because it is not codified.

Dated: June 1, 2015.
Bernadette Dunham,
Director, Center for Veterinary Medicine.

[FR Doc. 2015-13633 Filed 6-3-15; 8:45 am]

BILLING CODE 4164-01-P